DEPARTMENT OF TRANSPORTATION

Federal Aviation Administration

14 CFR Part 39

[Docket No. FAA-2005-22306; Directorate Identifier 2005-NM-169-AD; Amendment 39-14253; AD 2005-18-13]

RIN 2120-AA64

Airworthiness Directives; Israel Aircraft Industries, Ltd., Model 1124 and 1124A Airplanes

AGENCY: Federal Aviation Administration (FAA), Department of Transportation (DOT).

ACTION: Final rule; request for comments.

SUMMARY: The FAA is adopting a new airworthiness directive (AD) for all Israel Aircraft Industries, Ltd., Model 1124 and 1124A airplanes. This AD requires a one-time inspection for chafing of the electrical bundles in the overhead circuit breaker panel, and for adequate clearance between the fuselage frame and adjacent structures; and repair and rework if necessary. This AD results from reports of fire and smoke occurring in the passenger cabin. This AD also requires certain preventive actions. We are issuing this AD to prevent chafing of the electrical bundles in the overhead circuit breaker panel, which could result in a short circuit and consequent fire and smoke in the airplane.

DATES: This AD becomes effective September 22, 2005.

The Director of the Federal Register approved the incorporation by reference of certain publications listed in the AD as of September 22, 2005.

We must receive comments on this AD by November 7, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Gulfstream Aerospace Corporation, P.O. Box 2206, Mail Station D-25, Savannah, Georgia 31402-2206, for service information identified in this AD.

FOR FURTHER INFORMATION CONTACT: Mike Borfitz, Aerospace Engineer, International Branch, ANM-116, FAA, Transport Airplane Directorate, 1601 Lind Avenue, SW., Renton, Washington 98055-4056; telephone (425) 227-2677; fax (425) 227-1149.

SUPPLEMENTARY INFORMATION:

Discussion

The Civil Aviation Administration of Israel (CAAI), which is the airworthiness authority for Israel, notified us that an unsafe condition may exist on all Israel Aircraft Industries, Ltd., Model 1124 and 1124A airplanes. The CAAI advises that reports have been received of fire and smoke in the passenger cabins due to chafing between electrical bundles and the adjacent structure in the hinge area of the overhead circuit breaker panel. This condition, if not corrected, could result in a short circuit and consequent fire and smoke in the airplane.

Relevant Service Information

Israel Aircraft Industries has issued 1124 Westwind Alert Service Bulletin (ASB) 1124-24A-154, dated March 22, 2004. The ASB describes procedures for a one-time visual inspection for chafing of the electrical bundles in the overhead circuit breaker panel, and for adequate clearance between the fuselage frame and the “No Smoking—Fasten Seat Belt” sign; and repair and rework if necessary. The ASB also describes certain preventive actions including installing spiral wrap, insulated self-bondable tape, and a Teflon sheet at fuselage station 83.78. Accomplishing the actions specified in the service information is intended to adequately address the unsafe condition. The CAAI approved the ASB and issued Israeli Airworthiness Directive 24-05-02-32, dated March 15, 2005, to ensure the continued airworthiness of these airplanes in Israel.

FAA's Determination and Requirements of This AD

These airplane models are manufactured in Israel and are type certificated for operation in the United States under the provisions of section 21.29 of the Federal Aviation Regulations (14 CFR 21.29) and the applicable bilateral airworthiness agreement. Pursuant to this bilateral airworthiness agreement, the CAAI has kept the FAA informed of the situation described above. We have examined the CAAI's findings, evaluated all pertinent information, and determined that we need to issue an AD for products of this type design that are certificated for operation in the United States.

Therefore, we are issuing this AD to prevent chafing of the electrical bundles in the overhead circuit breaker panel, which could result in a short circuit and consequent fire and smoke in the airplane. This AD requires accomplishing the actions specified in the service information described previously, except as discussed under “Differences Between the AD and the Israeli airworthiness directive.”

Clarification of Inspection

Although the Israeli airworthiness directive and the ASB specify performing certain “inspections,” this AD specifies performing “general visual inspections.” For the purposes of this AD, Note 1 provides the definition of “general visual inspections.”

Difference Between the AD and the Israeli Airworthiness Directive

Although the Israeli airworthiness directive specifies a compliance time of “within 50 flight hours,” this AD specifies a compliance time of “within 60 days.” We have determined that, based on the fleet's average utilization rate, a 60-day compliance time is appropriate, in that it will allow more time to comply for airplanes with a relatively higher utilization rate without compromising safety. We have coordinated this difference with the CAAI.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2005-22306; Directorate Identifier 2005-NM-169-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-18-13 Israel Aircraft Industries, Ltd.: Amendment 39-14253. Docket No. FAA-2005-22306; Directorate Identifier 2005-NM-169-AD.

Effective Date

(a) This AD becomes effective September 22, 2005.

Affected ADs

(b) None.

Applicability

(c) This AD applies to all Israel Model 1124 and 1124A airplanes, certificated in any category.

Unsafe Condition

(d) This AD results from reports of fire and smoke occurring in the passenger cabin. We are issuing this AD to prevent chafing of the electrical bundles in the overhead circuit breaker panel, which could result in a short circuit and consequent fire and smoke in the airplane.

Compliance

(e) You are responsible for having the actions required by this AD performed within the compliance times specified, unless the actions have already been done.

Inspection of the Electrical Bundles

(f) Within 60 days after the effective date of this AD, perform a one-time general visual inspection for chafing of the electrical bundles in the overhead circuit breaker panel and for adequate clearance between the fuselage frame and the “No Smoking—Fasten Seat Belt” sign, and perform the preventive actions, in accordance with 1124-Westwind (Israel Aircraft Service Industries) Alert Service Bulletin (ASB) 1124-24A-154, dated March 22, 2004.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Corrective Actions

(g) If any chafing of the electrical bundles or inadequate clearance is detected during the inspection required by paragraph (f) of this AD, before further flight, repair and rework, as applicable; in accordance with 1124-Westwind (Israel Aircraft Industries) Alert Service Bulletin 1124-24A-154, dated March 22, 2005.

Alternative Methods of Compliance (AMOCs)

(h) The Manager, International Branch, ANM-116, FAA, Transport Airplane Directorate, has the authority to approve AMOCs for this AD, if requested in accordance with the procedures found in 14 CFR 39.19.

Related Information

(i) Israeli airworthiness directive 24-05-02-32, dated March 15, 2005, also addresses the subject of this AD.

Material Incorporated by Reference

(j) You must use 1124-Westwind (Israel Aircraft Industries) Alert Service Bulletin 1124-24A-154, dated March 22, 2004, to perform the actions that are required by this AD, unless the AD specifies otherwise. The Director of the Federal Register approved the incorporation by reference of this document in accordance with 5 U.S.C. 552(a) and 1 CFR part 51. Contact Gulfstream Aerospace Corporation, P.O. Box 2206, Mail Station D-25, Savannah, Georgia 31402-2206, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on August 24, 2005.
Ali Bahrami,
Manager, Transport Airplane Directorate, Aircraft Certification Service.

[FR Doc. 05-17600 Filed 9-6-05; 8:45 am]

BILLING CODE 4910-13-P